DEPARTMENT OF THE INTERIOR

National Park Service

60-Day Notice of Intention To Request Clearance of Collection of Information; Opportunity for Public Comment

AGENCY: Department of the Interior, National Park Service.

ACTION: Notice and request for comments.

SUMMARY: Under the provisions of the Paperwork Reduction Act of 1995 and 5 CFR part 1320, Reporting and Record Keeping Requirements, the National Park Service (NPS) invites public comments on a proposed renewal of an existing Information Collection Request (1024-0258).

DATES: Public comments will be accepted on the renewal of the existing Information Collection Request (ICR) on or before August 17, 2009.

ADDRESSES: Send Comments To: Carol Mansfield, Ph.D., RTI International, 3040 Cornwallis Rd, Research Triangle Park, NC or via e-mail at: carolm@rti.org. Also, you may send comments to Dr. James Gramann, NPS Social Science Program, 1201 “Eye” St. (2300), Washington, DC 20005 or via e-mail at James_Gramann@partner.nps.gov. All responses to this notice will be summarized and included in the request for the Office of Management and Budget (OMB) approval. All comments will become a matter of public record.

To Request a Draft of Proposed Collection of Information Contact: Carol Mansfield, Ph.D., RTI International, 3040 Cornwallis Rd, Research Triangle Park, NC: or via phone: 919/541-8053, or via e-mail at: carolm@rti.org.

FOR FURTHER INFORMATION CONTACT: Dr. James Gramann, NPS Social Science Program, 1201 “Eye” St. (2300), Washington, DC 20005; or via phone at 202/513-7189; or via e-mail at James_Gramann@partner.nps.gov. You are entitled to a copy of the entire ICR package free of charge.

SUPPLEMENTARY INFORMATION:

Title: Visitor Surveys for Cape Hatteras National Seashore.

Bureau Form Number: None.

OMB Number: 1024-0258.

Expiration Date: 11/30/2009.

Type of Request: Renewal, with change, of an existing collection.

Description of Need: The National Park Service (NPS) is requesting renewal of an existing information collection that received emergency clearance on May 21, 2009. RTI International, under contract with Cape Hatteras National Seashore, has completed a survey of local businesses under the emergency approval and began conducting a visitor survey at Cape Hatteras National Seashore (CAHA). The current request for a renewal is to continue the visitor survey. The survey gathers information that will be used in the planning and rulemaking processes for CAHA's Off-Road Vehicle (ORV) Management Plan/Environmental Impact Statement (EIS) and ORV regulation. The continuation of the visitor survey with the current renewal request will allow the NPS to have a seasonally representative sample of CAHA visitors. By having seasonal representation, the NPS will be better able to have a complete picture of visitors and visitor preferences for park management and for the final economic analysis.

Automated data collection: No automated data collection will be used. Information will be collected via on-site surveys.

Description of respondents: Visitors to Cape Hatteras National Seashore.

Estimated average number of respondents: 2,000 (1,200 respondents & 800 non-respondents)

Estimated average number of responses: 2,000 (1,200 respondents & 800 non-respondents)

Estimated average burden hours per response: 10 minutes for respondents & 2 minutes for non-respondents.

Frequency of Response: 1 time per respondent.

Estimated total annual reporting burden: 66 hours.

Comments are invited on: (1) The practical utility of the information being gathered; (2) the accuracy of the burden hour estimate; (3) ways to enhance the quality, utility, and clarity of the information to be collected; and (4) ways to minimize the burden to respondents, including use of automated information techniques or other forms of information technology. Before including your address, phone number, e-mail address, or other personal identifying information in your comment—may be made publicly available at any time. While you can ask us in your comment to withhold your personal identifying information from public review, we cannot guarantee that we will be able to do so.

Dated: June 9, 2009.
Cartina Miller,
NPS, Information Collection Clearance Officer.

[FR Doc. E9-14221 Filed 6-16-09; 8:45 am]

BILLING CODE 4312-52-P